ENVIRONMENTAL PROTECTION AGENCY

[FRL-9901-55-OCFO]

Notice of Open Meeting of the Environmental Financial Advisory Board (EFAB)

AGENCY: Environmental Protection Agency (EPA).

ACTION: Notice.

SUMMARY: The United States Environmental Protection Agency's (EPA) Environmental Financial Advisory Board (EFAB) will hold a full board meeting on October 22-23, 2013. EFAB is an EPA advisory committee chartered under the Federal Advisory Committee Act (FACA) to provide advice and recommendations on environmental financing issues. EFAB focuses its advice and recommendations on promoting sustainability by reducing environmental costs; increasing public and private investment; and building state, local, and tribal financial capacity.

The purpose of the meeting is to hear from informed speakers on environmental finance issues, review Agency challenges and priorities; discuss progress with EFAB work projects currently underway; review and consider requests for assistance from EPA offices as well as suggestions from EFAB members; and, to develop EFAB's FY 2014 Strategic Action Agenda.

Environmental Finance topics expected to be discussed include: Transit-Oriented Development in Sustainable Communities; Drinking Water Pricing and Infrastructure Investment; and Green Infrastructure.

The meeting is open to the public, however, seating is limited. All members of the public who wish to attend the meeting must register in advance, no later than Friday, October 11, 2013.

DATES: Full Board Meeting is scheduled for Tuesday, October 22, 2013 from 10:15 a.m. to 5:00 p.m. and Wednesday, October 23, 2013 from 8:30 a.m. to 3:00 p.m.

ADDRESSES: EPA Potomac Yards North Bldg., 2733 S. Crystal City Drive, Room 4120, Arlington, VA 22202.

Registration and Information Contact

To register for this meeting or get further information, please contact Sandra Williams, U.S. EPA, at (202) 564-4999 or williams.sandra@epa.gov. For information on access or services for individuals with disabilities, please contact Sandra Williams. To request accommodations of a disability, contact Sandra Williams, preferably at least 10 days prior to the meeting, to give EPA as much time as possible to process your request.

Dated: September 18, 2013.
Joseph L. Dillon,
Director, Center for Environmental Finance.

[FR Doc. 2013-23784 Filed 9-30-13; 8:45 am]

BILLING CODE 6560-50-P